DEPARTMENT OF ENERGY

Federal Energy Regulatory Commission

Combined Notice of Filings #1

Take notice that the Commission received the following electric rate filings:

Docket Numbers: ER13-62-003.

Applicants: NorthWestern Corporation.

Description: Compliance filing per 35: Order No 1000 Compliance Filing—South Dakota to be effective 1/2/2015.

Filed Date: 1/2/15.

Accession Number: 20150102-5218.

Comments Due: 5 p.m. ET 2/2/15.

Docket Numbers: ER15-704-001.

Applicants: Pacific Gas and Electric Company.

Description: Tariff Amendment per 35.17(b): Amendment to WDT SA, Request for Immediate Deletion of Tariff Records and Other to be effective 7/1/2015.

Filed Date: 1/2/15.

Accession Number: 20150102-5223.

Comments Due: 5 p.m. ET 1/23/15.

Docket Numbers: ER15-820-000.

Applicants: Zone One Energy, LLC.

Description: Initial rate filing per 35.12 Baseline New to be effective 2/1/2015.

Filed Date: 1/5/15.

Accession Number: 20150105-5013.

Comments Due: 5 p.m. ET 1/26/15.

Docket Numbers: ER15-821-000.

Applicants: New York State Reliability Council, L.L.C., WHITEMAN, OSTERMAN & HANNA (NY)

Description: Informational filing of Installed Capacity Requirement for the New York Control Area of the New York State Reliability Council, L.L.C.

Filed Date: 1/5/15.

Accession Number: 20150105-5096.

Comments Due: 5 p.m. ET 1/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2015.
Nathaniel J. Davis, Sr.,
Deputy Secretary.

[FR Doc. 2015-00190 Filed 1-9-15; 8:45 am]

BILLING CODE 6717-01-P